DEPARTMENT OF THE INTERIOR

National Park Service

Record of Decision for the General Management Plan for the Chattahoochee River National Recreation Area, GA

AGENCY: National Park Service, Department of the Interior.

ACTION: Notice of Availability of the Record of Decision for the General Management Plan Environmental Impact Statement for the Chattahoochee River National Recreation Area.

SUMMARY: Pursuant to the National Environmental Policy Act of 1969, 42 U.S.C. 4332(2)(C), the National Park Service (NPS) announces the availability of the Record of Decision (ROD) for the General Management Plan, Chattahoochee River National Recreation Area, Georgia. On December 15, 2009, the Regional Director, Southeast Region, approved the ROD for the project. As soon as practicable, the NPS will begin to implement the Preferred Alternative contained in the Final Environmental Impact Statement (EIS) issued on November 13, 2009. Six alternatives were evaluated in the EIS These include: Alternative A, No Action— Continue Current Management; Alternative B, Focus on Solitude—implements management programs to minimize development in the park and maximize the opportunity for visitors to experience solitude in natural settings; Alternative C—Visitors would be drawn toward a system of relatively developed hubs in which administrative and interpretive facilities are located; Alternative D—Expanding and distributing access throughout the park, including newly acquired parcels to provide diverse types of visitor experiences; Alternative E—Takes some features of Alternatives C and D and provides expanded access to the park while at the same time maintaining substantial acreage with less “hardened” forms of access such as paved parking areas, roads, and other structures; and Alternative F, the preferred alternative—Increases opportunities for the park to expand use to local visitors and increase connectivity to neighboring communities through trail linkages, partnering, and expanded interpretive, education and outreach activities.

The ROD includes a statement of the decision made, synopses of other alternatives considered, the basis for the decision, a description of the environmentally preferable alternative, a finding of no impairment of park resources and values, a listing of measures to minimize environmental harm, and an overview of public involvement in the decision-making process.

FOR FURTHER INFORMATION CONTACT: Daniel R. Brown, 1978 Island Ford Parkway, Sandy Springs, GA 30350-3400, (678) 538-1200, Daniel_R_Brown@nps.gov.

SUPPLEMENTARY INFORMATION: Copies of the Record of Decision may be obtained from the contact listed above or online at http://parkplanning.nps.gov/CHAT.

Authority: The authority for publishing this notice is 40 CFR 1506.6.

The responsible official for this Record of Decision is the Regional Director, Southeast Region, National Park Service, 100 Alabama Street, SW., 1924 Building, Atlanta, Georgia 30303.

Dated: May 14, 2010.
Gordon Wissinger,
Acting Regional Director, Southeast Region.

[FR Doc. 2010-16248 Filed 7-2-10; 8:45 am]

BILLING CODE 4310-70-P